DEPARTMENT OF JUSTICE

Bureau of Justice Statistics

[OJP(BJS)-1325]

2001 Civil Justice Survey of State Courts

AGENCY: Office of Justice Programs, Bureau of Justice Statistics.

ACTION: Notice of solicitation for award of cooperative agreement.

SUMMARY: The purpose of this notice is to announce a public solicitation to obtain a data collection agent for the 2001 Civil Justice Survey of State Courts.

DATES: Proposals must arrive at the Bureau of Justice Statistics (BJS) on or before 5 p.m. EST, Friday, September 14, 2001, or be postmarked on or before September 14, 2001.

ADDRESSES: Proposals should be mailed to: Application Coordinator, Bureau of Justice Statistics, 810 7th Street NW., Washington, DC 20531; (202) 616-3497.

FOR FURTHER INFORMATION CONTACT: Carol DeFrances, Ph.D., Statistician, Bureau of Justice Statistics, 810 7th Street NW, Washington, D.C. 20531; Phone: (202) 307-0777 [This is not a toll free number]; Email: defran@ojp.usdoj.gov.

SUPPLEMENTARY INFORMATION:

Statutory Authority

The award(s) made pursuant to this solicitation will be funded by the Bureau of Justice Statistics consistent with the provisions of 42 U.S.C. § 3732.

Program Goals

The purpose of this award is to provide funding to administer the 2001 Civil Justice Survey of State Courts. The survey will collect information on tort, contract, and real property rights cases disposed of by jury or bench trial in State courts of general jurisdiction in 45 counties chosen to represent the Nation's 75 most populous counties. The project will replicate the scope and content of the jury and bench trial data collected in the 1996 Civil Justice Survey of State Courts. The project also will extend the data collection to include information on the number of trial cases appealed, outcome of the appeal as well as collect available characteristics of plaintiffs and defendants.

BJS anticipates making one award for a 24-month period under this solicitation. Up to $425,000 will be made available for this project under the FY2001 appropriation.

Background

The Civil Justice Survey of State Courts statistical series is the only broad based, systematic examination of the nature of civil litigation in State courts of general jurisdiction. The 1992 Civil Justice Survey of State Courts, the first time the project was conducted, gathered detailed information on a sample of tort, contract and real property rights cases in 45 jurisdictions chosen to represent the 75 most populous counties in the Nation. The largest 75 counties account for about 37 percent of the U.S. population and about half of all civil filings. The 1992 data collection produced two data sets. The first data set was a sample of approximately 30,000 tort, contract, and real property rights cases disposed of by various methods such as agreed judgment, summary judgment, arbitration, and trial verdict during the twelve month period ending June 30, 1992. The second data set was a sample of about 6,500 cases disposed of only by jury trial over the same time period.

The 1996 Civil Justice Survey of State Courts expanded the 1992 civil jury study by specifically sampling bench and jury trial cases. For the 1996 project, information was collected on tort, contract and real property rights trial cases in 45 jurisdictions chosen to represent the 75 most populous counties in the Nation. The 1996 data collection produced one data set that contained a sample of 9,025 tort, contract, and real property rights cases disposed of by jury or bench verdict between January and December 1996.

The data collected during the 1992 and 1996 Civil Justice Survey of State Courts has been used in many law journal articles, quoted in various newspaper articles, and cited in proposed federal legislation on asbestos.

Eligibility Requirements

Both profit making and nonprofit organizations may apply for funds. Consistent with OJP fiscal year requirements, however, no fees may be charged against the project by profit-making organizations.

Scope of Work

The objective of this project is to complete data collection for the 2001 Civil Justice Survey of State Courts. This includes selecting the 45 sites and obtaining the State court's cooperation, developing the data collection instrument, selecting the tort, contract and real property rights trial cases, data verification, data coding and entry, constructing replicate weights for standard error testing, and delivery of a final data set and documentation to BJS. Specifically, the recipient of funds will:

1. Design a new sample of 45 counties chosen to represent the largest 75 counties based on the 2000 Bureau of the Census population figures and develop a sampling plan for selecting tort, contract and real property rights jury and bench trial cases in the 45 sites. The grantee will be required to secure approval for the data collection from the chief judge of the State court of general jurisdiction in each county.

2. Develop a collection instrument that gathers data on the specific type of tort, contract, and real property rights cases, type of trial, plaintiff and defendant types, filing date, answer date, trial date, verdict date, number of days in trial, type of injury in malpractice cases, type of defendant in malpractice cases, permanence of injury in malpractice cases, type of product in product liability cases, pro se litigants, trial winners, economic and noneconomic money damages awarded, punitive damages awarded, case appealed, and outcome of appeal. The BJS program manager must approve the data collection form before data collection can begin.

3. Collect data on tort, contract, and real property rights cases disposed of by jury or bench trial in the 45 sites. This may entail training and paying court staff to assist with data collection.

4. Develop analysis weights so statistics generated from the data collection are applicable to the largest 75 counties and construct replicate weights so that standard errors for the estimates can be generated using WesVar PC.

5. Write profiles of the 45 State courts' civil litigation process, and review and update State contributory negligence rules.

6. Deliver to BJS an electronic version of the data in SPSS format and supporting documentation. Documentation should include, but is not limited to, a comprehensive codebook detailing variable positions, data coding, variable and value labels, procedures for data verification, any recoding implemented during the data cleaning process, and copies of all programs used to generate data or published statistics. All data and documentation will be posted on the BJS website, and data archived at the Inter-University Consortium for Political and Social Research (ICPSR). All data collected under the project remains property of BJS until such time that BJS releases the data to the public. The grantee may not share or release any data collected under the project without prior written approval from BJS.

7. Develop a detailed timetable for each task in the project. Data collection should begin within four months of the project start and be completed within 12 months. After the BJS project manager has agreed to the timetable, all work must be completed as scheduled.

Award Procedures and Evaluation Criteria

Proposals should describe the plan and implementation strategy to accomplish each of the activities outlined in the Scope of Work. Information on staffing levels and qualifications should be included for each task and descriptions of experience relevant to the project. Resumes of the proposed project director and key staff should be enclosed with the proposal.

Applications will be reviewed competitively. The final selection decision will be made by the Acting Director of BJS. The applicant will be evaluated on the basis of:

1. Ability to complete Scope of Work with documented evidence of research expertise and experience in sample design, objective data gathering, data coding, entry and verification, project documentation, and the production of public use data files. This includes availability of an adequate computing environment, knowledge of standard social science data processing software, and demonstrated ability to produce SPSS readable data files for analysis and report production.

2. Knowledge of relevant civil justice issues regarding tort, contract, and real property rights cases and prior research in this area. Applicants should be familiar with the findings from the six BJS reports produced from the 1992 and 1996 Civil Justice Survey of State Courts. Copies of these reports are available from the BJS website http://www.ojp.usdoj.gov/bjs or the National Criminal Justice Reference Service, 1-800-732-3277. The application should include a summary of key findings from these reports and outline how the current project would gather the same type of information for comparative purposes and address additional topics.

3. Availability of qualified professional, field and support staff, and suitable equipment for data gathering and processing. This includes expertise in multi-stage sampling, probability sampling techniques and standard error estimation from sample data.

4. Demonstrated fiscal, management, staff, and organizational capability to provide sound management for this project.

Application and Award Process

An original and three (3) copies of the full proposal must be submitted including:

• Standard Form 424, Application for Federal Assistance

• OJP Form 7150/1, Budget Detail Worksheet

• OJP Form 4000/3, Assurances

• OJP Form 4061/6, Certification Regarding Lobbying, Debarment, Suspension, and Other Responsibility Matters; Drug Free Workplace Requirements

• OJP Form 7120-1, Accounting System and Financial Capability Questionnaire (to be submitted by applicants who have not previously received Federal funds from the Office of Justice Programs).

These forms can be obtained online from http://www.ojp.usdoj.gov/bjs/apply.htm.

In addition, fund recipients are required to comply with regulations designed to protect human subjects and ensure confidentiality of data. In accordance with 28 CFR Part 22, a Privacy Certificate must be submitted to BJS. Furthermore, a Screening Sheet for Protection of Human Subjects must be completed prior to the award being issued. Questions regarding Protection of Human Subjects and/or Privacy Certificate requirements can be directed to the Human Subjects Protection Officer (HSPO) at (202) 616-3282 [This is not a toll free number].

Proposals must include a project narrative and detailed budget. The project narrative should describe activities as discussed in the Scope of Work and address the evaluation criteria. The detailed budget must provide detailed costs including salaries of staff involved in the project and the portion of those salaries to be paid from the award, fringe benefits paid to each staff person, travel costs, supplies required for the project, sub-contractual agreements, and other allowable costs. The grant award will be made for a period of 24 months.

Lawrence A. Greenfeld,
Acting Director, Bureau of Justice Statistics.

[FR Doc. 01-20433 Filed 8-13-01; 8:45 am]

BILLING CODE 4410-18-P